DEPARTMENT OF EDUCATION

Notice of Proposed Information Collection Requests

AGENCY: Department of Education.

ACTION: Correction Notice.

SUMMARY: On January 18, 2006, the Department of Education published a notice in the Federal Register (Page 2915, Column 2) for the information collection, “Fiscal Operations Report for 2005-2006 and Application To Participate for 2007-2008 (FISAP) and Reallocation Form E40-4P.” This notice hereby corrects the Abstract to read, “This application data will be used to compute the amount of funds needed by each school for the 2007-2008 award year. The Fiscal Operations Report data will be used to assess program effectiveness, account for funds expended during the 2005-2006 award year, and as part of the school funding process. The Reallocation form is part of the FISAP on the web. Schools will use it in the summer to return unexpended funds for 2005-2006 and request supplemental FWS funds for 2006-2007.”

The IC Clearance Official, Regulatory Information Management Services, Office of the Chief Information Officer, hereby issues a correction notice as required by the Paperwork Reduction Act of 1995.

Dated: February 3, 2006.
Angela C. Arrington,
IC Clearance Official, Regulatory Information Management Services, Office of the Chief Information Officer.

[FR Doc. E6-1761 Filed 2-8-06; 8:45 am]

BILLING CODE 4000-01-P